FEDERAL COMMUNICATIONS COMMISSION

Information Collection Being Reviewed by the Federal Communications Commission Under Delegated Authority

AGENCY: Federal Communications Commission.

ACTION: Notice and request for comments.

SUMMARY: As part of its continuing effort to reduce paperwork burden and as required by the Paperwork Reduction Act (PRA) of 1995 (44 U.S.C. 3501-3520), the Federal Communications Commission invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information burden for small business concerns with fewer than 25 employees. The FCC may not conduct or sponsor a collection of information unless it displays a currently valid OMB control number. No person shall be subject to any penalty for failing to comply with a collection of information subject to the Paperwork Reduction Act (PRA) that does not display a valid OMB control number.

DATES: Written Paperwork Reduction Act (PRA) comments should be submitted on or before May 13, 2014. If you anticipate that you will be submitting PRA comments, but find it difficult to do so within the period of time allowed by this notice, you should advise the FCC contact listed below as soon as possible.

ADDRESSES: Submit your PRA comments to Benish Shah, Federal Communications Commission, via the Internet at Benish.Shah@fcc.gov. To submit your PRA comments by email send them to: PRA@fcc.gov.

FOR FURTHER INFORMATION CONTACT: Benish Shah, Office of Managing Director, (202) 418-7866.

SUPPLEMENTARY INFORMATION:

OMB Control Number: 3060-0053.

Title: Experimental Authorization Applications-FCC Form 702, Consent to Assign an Experimental Authorization; and FCC Form 703, Consent to Transfer Control of Corporation Holding Station License.

Form Nos.: FCC Form 702 and 703.

Type of Review: Extension of a currently approved collection.

Respondents: Business or other for-profit and not-for-profit institutions.

Number of Respondents and Responses: 50 respondents; 50 responses.

Estimated Time per Response: 0.6 hours (36 minutes).

Frequency of Response: On occasion reporting requirement and third party disclosure requirement.

Obligation to Respond: Required to obtain or retain benefits. Statutory authority for this information collection is contained in 47 U.S.C. sections 154, 302 and 303.

Total Annual Burden: 30 hours.

Total Annual Cost: $3,000.

Privacy Act Impact Assessment: N/A.

Nature and Extent of Confidentiality: There is no need for confidentiality. However, if respondents wish to request that their information be withheld from public inspection, they may do so under 47 CFR 0.459 of the Commission's rules.

Needs and Uses: This information collection will be submitted as an extension (no change in reporting requirement) after this 60-day comment period to the Office of Management and Budget (OMB) to obtain the three year clearance from them.

Mandatory electronic filing of applications for Experimental Radio licenses, for FCC Forms 702 and 703, commenced on January 1, 2004.

Applicants for Experimental Radio Services are required by 47 CFR 5.59(e) of the Commission's rules: To submit FCC Form 702 when the legal right to control the use and operation of a station is to be transferred, as a result of a voluntary act (contract or other agreement); of an involuntary act (death or legal disability) of the grantee of a station authorization; by involuntary assignment of the physical property constituting the station under a court decree in bankruptcy proceedings or other court order; or by operation of law in any other manner; and they are also required to submit FCC Form 703 when they propose to change the control of a corporation holding a station license via a transfer of stock ownership or control of a station. The Commission uses the information to determine the eligibility for licenses, without which, violations of ownership regulations may occur.

Federal Communications Commission.
Gloria J. Miles,
Federal Register Liaison, Office of the Secretary, Office of Managing Director.

[FR Doc. 2014-05701 Filed 3-13-14; 8:45 am]

BILLING CODE 6712-01-P